DEPARTMENT OF LABOR

Employment and Training Administration

[TA-W-73,441; TA-W-73,441A; TA-W-73,441B; TA-W-73,441C; TA-W-73,441D; TA-W-73,441E; TA-W-73,441F; TA-W-73,441G]

Notice of Revised Determination on Reconsideration

TA-W-73,441

Quad Graphics, Inc., Including Leased Workers From Staff Management, Inc., Sussex, WI

TA-W-73,441A

Quad Tech, Inc., Including Leased Workers From Firstech, Eagle Technology Group, Inc., and RCM Technologies, Sussex, WI

TA-W-73,441B

Quad Graphics, Inc., Including Leased Workers From Staff Management, Inc., West Allis, WI

TA-W-73,441C

Quad Graphics, Inc., Including Leased Workers From Staff Management, Inc., Pewaukee, WI

TA-W-73,441D

Quad Graphics, Inc., Including Leased Workers From Staff Management, Inc., Lomira, WI

TA-W-73,441E

Quad Graphics, Inc., Including Leased Workers From Staff Management, Inc., Hartford, WI

TA-W-73,441F

World Color Mt. Morris II, LLC, a Subsidiary of Quad Graphics, Inc., Mt. Morris, IL

TA-W-73,441G

Quad Graphics, Inc., Including Leased Workers From SPS Temporaries, Depew, NY

On February 17, 2011, the Department issued a Notice of Affirmative Determination Regarding Application for Reconsideration for the workers and former workers of Quad Tech, Inc. (subject firm), Sussex, Wisconsin (TA-W-73,441A) to apply for Trade Adjustment Assistance (TAA). The Department's Notice was published in the Federal Register on March 15, 2011 (76 FR 14099).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

During the reconsideration investigation, the subject firm company official clarified that the worker who requested reconsideration worked at Quad Graphics, Inc., Hartford, Wisconsin (TA-W-73,441E). Further, additional clarifying information was received which resulted in an expanded reconsideration investigation that included:

• Quad Graphics, Inc., including leased workers from Staff Management, Inc., Sussex, Wisconsin (TA-W-73,441), engaged in the production of magazines and catalogs;

• Quad Tech, Inc., including leased workers from FIRSTECH, Eagle Technology Group, Inc., and RCM Technologies, Sussex, Wisconsin (TA-W-73,441A), engaged in the production of automated controls and finishing controls for printing presses and supply of support services;

• Quad Graphics, Inc., including leased workers from Staff Management, Inc., West Allis, Wisconsin (TA-W-73,441B), engaged in the production of magazines and catalogs;

• Quad Graphics, Inc., including leased workers from Staff Management, Inc., Pewaukee, Wisconsin (TA-W-73,441C), engaged in the production of magazines and catalogs;

• Quad Graphics, Inc., including leased workers from Staff Management, Inc., Lomira, Wisconsin (TA-W-73,441D), engaged in the production of magazines and catalogs;

• Quad Graphics, Inc., including leased workers from Staff Management, Inc., Hartford, Wisconsin (TA-W-73,441E), engaged in the production of magazines and catalogs;

• World Color Mt. Morris II, LLC, a subsidiary of Quad Graphics, Inc., Mt. Morris, Illinois (TA-W-73,441F), engaged in the production of magazines and catalogs; and

• Quad Graphics, Inc., including leased workers from SPS Temporaries, Depew, New York (TA-W-73,441G), engaged in the production of paperback books.

The reconsideration investigation revealed that the following worker groups have met the certification criteria under Section 222(a) of the Trade Act, 19 U.S.C. 2272(a): TA-W-73,441, TA-W-73,441A, TA-W-73,441B, TA-W-73,441F, and TA-W-73,441G.

Criterion I has been met because a significant number or proportion of workers at each of the aforementioned worker groups have become totally or partially separated, or are threatened with such separation.

Criterion II has been met because there has been an acquisition from a foreign country by the subject firm of articles that are like or directly competitive with those produced by the aforementioned worker groups.

Criterion III has been met because the acquisition of articles contributed importantly to the workers' separation or threat of separation at the afore-mentioned worker groups.

A careful review of the administrative record and additional information obtained by the Department during the reconsideration investigation revealed that the following worker groups have not met the certification criteria under Section 222(a) of the Trade Act, 19 U.S.C. 2272(a): TA-W-73,441C, TA-W-73,441D and TA-W-73,441E.

Criterion I has not been met because a significant number or proportion of the workers' at each of the afore-mentioned worker groups have not become totally or partially separated, nor threatened to become totally or partially separated.

29 CFR 90.2 states that a significant number or proportion of the workers means at least three (3) workers in a firm (or appropriate subdivision thereof) with a workforce of fewer than 50 workers, or five (5) percent of the workers or 50 workers, whichever is less, in a workforce of 50 or more workers.

Conclusion

After reconsideration, I affirm the original notice of negative determination of eligibility to apply for worker adjustment assistance for workers and former workers of Quad Graphics, Inc., Pewaukee, Wisconsin (TA-W-73,441C); Quad Graphics, Inc., Lomira, Wisconsin (TA-W-73,441D); and Quad Graphics, Inc., Hartford, Wisconsin (TA-W-73,441E). Further, after careful review of the additional facts obtained on reconsideration, I determine that workers and former workers of Quad Graphics, Inc., Sussex, Wisconsin; Quad Tech, Inc., Sussex, Wisconsin; Quad Graphics, Inc., West Allis, Wisconsin; World Color Mt. Morris II, LLC, Mt. Morris, Illinois; and Quad Graphics, Inc., Depew, New York, meet the worker group certification criteria under Section 222(a) of the Act, 19 U.S.C. 2272(a). In accordance with Section 223 of the Act, 19 U.S.C. 2273, I make the following certification:

All workers of Quad Graphics, Inc., including leased workers from Staff Management, Inc., Sussex, Wisconsin (TA-W-73,441); Quad Tech, Inc., including leased workers from FIRSTECH, Eagle Technology Group, Inc., and RCM Technologies, Sussex, Wisconsin (TA-W-73,441A); Quad Graphics, Inc., including leased workers from Staff Management, Inc., West Allis, Wisconsin (TA-W-73,441B); World Color Mt. Morris II, LLC, a subsidiary of Quad Graphics, Inc., Mt. Morris, Illinois (TA-W-73,441F); and Quad Graphics, Inc., including leased workers from SPS Temporaries, Depew, New York (TA-W-73,441G), who became totally or partially separated from employment on or after February 2, 2009, through two years from the date of this revised certification, and all workers in the group threatened with total or partial separation from employment on date of certification through two years from the date of certification, are eligible to apply for adjustment assistance under Chapter 2 of Title II of the Trade Act of 1974, as amended.

Signed in Washington, DC, this 27th day of September 2011.
Del Min Amy Chen,
Certifying Officer, Office of Trade Adjustment Assistance.

[FR Doc. 2011-25714 Filed 10-4-11; 8:45 am]

BILLING CODE 4510-FN-P